DEPARTMENT OF COMMERCE

National Oceanic and Atmospheric Administration

[I.D. 120202B]

Marine Mammal Authorization Program Integration of Registration for Selected Atlantic Ocean, Gulf of Mexico, and Caribbean Fisheries

AGENCY: National Marine Fisheries Service (NMFS), National Oceanic and Atmospheric Administration (NOAA), Commerce.

ACTION: Notice of expansion of integrated registration program.

SUMMARY: NMFS is providing notice that it is increasing the number of fisheries for which the Marine Mammal Authorization Program (MMAP) registration is integrated with existing Federal fishery licensing and permitting programs. NMFS is integrating MMAP registration at this time for Category I or II federal fisheries permitted through the NMFS Southeast Regional office. Fishers who participate in a Category I or II fishery for which registration is not integrated must continue to register as specified in the List of Fisheries.

ADDRESSES: For east coast fisheries, registration information and marine mammal injury/mortality reporting forms may be obtained from the following regional offices:

NMFS, Northeast Region, Protected Resources Division, One Blackburn Drive, Gloucester, MA 01930-2298, Attn: Marcia Hobbs.

NMFS, Southeast Region, 9721 Executive Center Drive North, St. Petersburg, FL 33702, Attn: Teletha Griffin.

FOR FURTHER INFORMATION CONTACT: Patricia Lawson, Office of Protected Resources, 301-713-2322; Marcia Hobbs, Northeast Regional Office, 978-281-9328; or Teletha Griffin, Southeast Regional Office, 727-570-5312. Individuals who use a telecommunications device for the deaf (TDD) may call the Federal Information Relay Service at 1-800-877-8339 between 8 a.m. and 4 p.m. Eastern time, Monday through Friday, excluding Federal holidays.

SUPPLEMENTARY INFORMATION:

Background

According to the Marine Mammal Protection Act (MMPA), all fishers who participate in a Category I or II fishery as provided in the List of Fisheries (67 FR 2410, January 17, 2002) must be registered in the MMAP. The MMAP provides an authorization for commercial fishers which allows the incidental (i.e., non-intentional) taking of marine mammals pursuant to the MMPA during the course of commercial fishing operations. To qualify for this authorization, fishers who participate in a Category I or II fishery must register in the MMAP. (For a complete description of requirements for Category I and II fisheries, consult 50 CFR 229.4). A complete description of the purpose and history of the MMAP integration process can be found in 67 FR 42237 (June 21, 2002).

The goals of the expanded integration program include assuring consistency in registration procedures across a greater number of fisheries, increasing the number of registrants to better reflect the level of participation in the fisheries for monitoring purposes, and conducting outreach to the fishing industry with regard to MMPA requirements. By using data from existing fishery licensing programs, the MMAP integration will reduce the registration burden on the fishing industry while better facilitating the protection and conservation of marine mammals. In a licensing system that is integrated with the MMAP, fishers will no longer have to submit an MMAP registration form, current fishery permit holders registration form, renewal form, or processing fee to NMFS in order to receive or validate their MMAP Authorization Certificates.

NMFS is pursuing the integration of MMAP registration based on the fishery listings in the 2002 LOF. Southeast fisheries permitted through the Southeast Regional Federal Permits office which will be integrated include Coastal Migratory Pelagics, Rock Shrimp, Shark, Snapper-Grouper, High Seas, and Swordfish. Of those fisheries, only those permit holders who indicated use of gear types that fall within the 2002 LOF will be integrated. These gear types include portions of the gillnet, longline, and trawl fisheries.

A database has been established to query the license-holder information from the Federal permit database. Using this information, NMFS will mail MMAP Authorization Certificates and marine mammal injury/mortality reporting forms to each permit or license-holder. The certificates will provide an MMAP authorization for all fishers who participate in an integrated Category I or II fishery, provided that the fisher holds a valid Federal fishing permit or license for the affected regulated fishery.

A fisher who participates in state and/or Federal fisheries not yet integrated with the MMAP registration system must continue to send in the registration form to NMFS.

Dated: December 16, 2002.
Rebecca Lent,
Deputy Assistant Administrator for Regulatory Programs, National Marine Fisheries Service.

[FR Doc. 02-33037 Filed 12-30-02; 8:45 am]

BILLING CODE 3510-22-S